DEPARTMENT OF HOMELAND SECURITY

Coast Guard

[Docket No. USCG-2016-0965]

Certificate of Alternative Compliance for the TUG MAXWELL PAUL MORAN

AGENCY: Coast Guard, DHS.

ACTION: Notice.

SUMMARY: The Coast Guard announces that the First District Prevention Department's Inspections and Investigations Division has issued a Certificate of Alternate Compliance (COAC) from the International Regulations for Preventing Collisions at Sea, 1972 (72 COLREGS) for the TUG MAXWELL PAUL MORAN as required by statue. Due to its operations as a harbor assistance and escort vessel it cannot fully comply with the sidelight, stern light, and towing light provisions of the 72 COLREGS without interfering with its ability to make up and assist other vessels. This notice promotes the Coast Guard's maritime safety and stewardship missions.

ADDRESSES: Documents mentioned in the preamble are part of docket USCG-2016-0965. To view documents mentioned in this preamble as being available in the docket, go to the Federal eRulemaking Portal at http://www.regulations.gov, type the docket number in the “SEARCH” box and click “SEARCH.” Click on Open Docket Folder on the line associate with this notice.

FOR FURTHER INFORMATION CONTACT: For information or questions about this notice call or email Mr. Kevin Miller, First District Towing Vessel/Barge Safety Specialist, U.S. Coast Guard; telephone (617) 223-8272, email <Kevin.L.Miller2@uscg.mil>.

SUPPLEMENTARY INFORMATION:

The United States is signatory to the International Maritime Organization's International Regulations for Preventing Collisions at Sea, 1972 (72 COLREGS), as amended. The special construction or purpose of some vessels makes them unable to comply with the light, shape, and sound signal provisions of the 72 COLREGS. Under statutory law ¹ and Coast Guard regulation,² a vessel may instead meet alternative requirements and the vessel's owner, builder, operator, or agent may apply for a COAC. For vessels of special construction, the cognizant Coast Guard District Office determines whether the vessel for which the COAC is sought complies as closely as possible with the 72 COLREGS, and decides whether to issue the COAC. Once issued, a COAC remains valid until information supplied in the COAC application or the COAC terms become inapplicable to the vessel. Under the governing statute ³ and regulation,⁴ the Coast Guard must publish notice of this action.

¹ 33 U.S.C. 1605(c).

² 33 CFR 81.3.

³ 33 U.S.C. 1605(c).

⁴ 33 CFR 81.18.

The Prevention Department's Inspection and Investigation Division, U.S. Coast Guard First District hereby finds and certifies that the TUG MAXWELL PAUL MORAN is a vessel of special construction or purpose, and that, with respect to the position of the navigation and towing lights, it is not possible to comply fully with the requirements of the provisions enumerated in the 72 COLREGS, without interfering with the normal operation of the vessel. The Prevention Department's Inspection and Investigation Division, U.S. Coast Guard First District further finds and certifies that the sidelights (13′ 5.25″ from the vessel's side mounted on the pilot house) and stern/towing lights (3′ 5.75″ aft of frame 20 mounted on top of the pilot house) are in the closet possible compliance with the applicable provisions of the 72 COLREGS and that full compliance with the 72 COLREGS would not significantly enhance the safety of the vessel's operation.

This notice is issued under authority of 33 U.S.C. 1605(c) and 33 CFR 81.

Dated: November 3, 2016.
B.L. Black,
Captain, Chief, Prevention Department, First District, U.S. Coast Guard.

[FR Doc. 2016-27835 Filed 11-17-16; 8:45 am]

BILLING CODE 9110-04-P